DEPARTMENT OF THE TREASURY

Alcohol and Tobacco Tax and Trade Bureau

27 CFR Part 9

[Docket No. TTB-2013-0009; T.D. TTB-125; Ref: Notice No. 140]

RIN 1513-AB68

Establishment of the Adelaida District, Creston District, El Pomar District, Paso Robles Estrella District, Paso Robles Geneseo District, Paso Robles Highlands District, Paso Robles Willow Creek District, San Juan Creek, San Miguel District, Santa Margarita Ranch, and Templeton Gap District Viticultural Areas

AGENCY: Alcohol and Tobacco Tax and Trade Bureau, Treasury.

ACTION: Final rule; Treasury decision.

SUMMARY: The Alcohol and Tobacco Tax and Trade Bureau (TTB) establishes the Adelaida District, Creston District, El Pomar District, Paso Robles Estrella District, Paso Robles Geneseo District, Paso Robles Highlands District, Paso Robles Willow Creek District, San Juan Creek, San Miguel District, Santa Margarita Ranch, and Templeton Gap District viticultural areas within the boundary of the existing Paso Robles viticultural area in northern San Luis Obispo County, California. The Paso Robles viticultural area, in turn, is located within the larger multicounty Central Coast viticultural area. TTB designates viticultural areas to allow vintners to better describe the origin of their wines and to allow consumers to better identify wines they may purchase.

DATES: This final rule is effective November 10, 2014.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated December 10, 2013, to the TTB Administrator to perform the functions and duties in the administration and enforcement of this law.

Part 4 of the TTB regulations (27 CFR part 4) authorizes the establishment of definitive viticultural areas and the use of their names as appellations of origin on wine labels and in wine advertisements. Part 9 of the TTB regulations (27 CFR part 9) sets forth standards for the preparation and submission to TTB of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations outlines the procedure for proposing an AVA and provides that any interested party may petition TTB to establish a grape-growing region as an AVA. Section 9.12 of the TTB regulations (27 CFR 9.12) prescribes the standards for petitions for the establishment of AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon; and

• A detailed narrative description of the proposed AVA boundary based on USGS map markings.

Adelaida District, Creston District, El Pomar District, Paso Robles Estrella District, Paso Robles Geneseo District, Paso Robles Highlands District, Paso Robles Willow Creek District, San Juan Creek, San Miguel District, Santa Margarita Ranch, and Templeton Gap District Petitions

The Paso Robles Viticultural Area Committee (PRVAC) petitioned TTB to establish 11 new AVAs located entirely within the existing Paso Robles AVA (27 CFR 9.84) in northern San Luis Obispo County, California. The Paso Robles viticultural area, in turn, is located within the larger multicounty Central Coast viticultural area (27 CFR 9.75). The 11 proposed AVAs are Adelaida District, Creston District, El Pomar District, Paso Robles Estrella District, Paso Robles Geneseo District, Paso Robles Highlands District, Paso Robles Willow Creek District, San Juan Creek, San Miguel District, Santa Margarita Ranch, and Templeton Gap District. The 59 wine industry members who constitute PRVAC cumulatively own or manage over 10,000 acres of vineyards within the 11 proposed AVAs.

The PRVAC proposal to establish the 11 new AVAs would not alter the current boundary or size of the Paso Robles AVA. According to the PRVAC, some portions of the Paso Robles AVA are not included in any of the 11 proposed AVAs because they are urban areas, government-owned lands unavailable for commercial viticulture, or they contain little or no viticultural activity due to environmental or topographical factors.

Notice of Proposed Rulemaking

TTB published Notice No. 140 in the Federal Register on September 20, 2013 (78 FR 58050), proposing to establish the Adelaida District, Creston District, El Pomar District, Paso Robles Estrella District, Paso Robles Geneseo District, Paso Robles Highlands District, Paso Robles Willow Creek District, San Juan Creek, San Miguel District, Santa Margarita Ranch, and Templeton Gap District AVAs. In the notice, TTB summarized the evidence from all 11 petitions regarding the name, boundary, and distinguishing features of each proposed AVA. The notice also compared the distinguishing features of each proposed AVA to the other proposed AVAs, as well as to the distinguishing features of the larger Paso Robles and Central Coast AVAs within which the 11 proposed AVAs are located. The following table summarizes the distinctive characteristics of the 11 proposed AVAs, the Paso Robles AVA, and the Central Coast AVA. For a more detailed description of the evidence relating to the names, boundaries, and distinguishing features of the 11 proposed AVAs, see Notice No. 140.

Comparison of the Central Coast and Paso Robles Viticultural Areas to the Eleven Proposed Viticultural Areas
Viticultural area | Climate | Avg. annual rainfall (inches) | Diurnal growing season temp. change ¹ (degrees) | Topography | Soil
Central Coast ² | Maritime climate characterized by marine fog | N/A | N/A | N/A | N/A.
Paso Robles | Maritime climate becoming more continental to the east, with growing degree-day Regions II, III and IV | 8-30 | 20-50 | Salinas River and tributary valleys, alluvial terraces, and surrounding mountain slopes; 600-2,400+ feet | Soils both depositional and residual derived from sedimentary rock; moderate depth.
Proposed Adelaida District | Region II-III transitional area with modest marine influence (light sea breezes and little marine fog) | 25 | 30 | Santa Lucia Range high mountain slopes grading to foothills; 900-2200 feet | Shallow, bedrock residual soils and patchy colluvial hillside soils from middle member of Monterey Formation and older rocks; largely calcareous soils.
Proposed Creston District | Region III with modest marine influence (moderate sea breezes and marine fog) | 11.5 | 25 | Old erosional plateau at the base of the La Panza Range; alluvial terraces and fans of Huerhuero Creek; 1,000-2,000 feet | Old, well developed terrace and hillside soils; mix of granitic and sedimentary rocks.
Proposed El Pomar District | Region II with pronounced marine influence (strong sea breezes and heavy marine fog) | 15 | 20-25 | High, older terraces, fans, and hills; 740-1,600 feet | Quaternary alluvial soils, well developed loams to clay loams, some calcareous, with Monterey Formation sandstone and siltstone at depth in some areas.
Proposed Paso Robles Estrella District | Region III with modest marine influence | 12.5-15.5 | 35-40 | Rolling plains of Estrella River valley and terraces; 745-1819 feet | Quaternary alluvial soils of diverse ages across younger to older terraces, deep to moderate depth, with remnant patches of older valley fill at highest elevations.
Proposed Paso Robles Geneseo District | Region III-IV with modest marine influence | 13-14 | 20-25 | Upfaulted hills through old river terraces along Huerhuero-La Panza fault; 740-1,300 feet | Old alluvial terrace and residual hillside soils of moderate depth with cementation of the gravelly Paso Robles Formation and older granites.
Proposed Paso Robles Highlands District | Region IV with little marine influence | 12 | 50+ | Old Pliocene-Pleistocene erosional surface across the Simmler, Monterey and Paso Robles formations below the La Panza Range; 1,160-2,086 feet | Deep, sometimes cemented alluvial soils; old leached alkaline soils common, with younger sandy soils along active steams.
Proposed Paso Robles Willow Creek District | Region II with pronounced marine influence | 24-30 | 20 | High elevation mountainous bedrock slopes across a more erodible member of the Monterey Formation; 960-1,900 feet | Mostly bedrock (residual) soils from the middle and lower members of the Monterey Formation, patches of alluvial soil along streams, largely calcareous, loams to clay loams.
Proposed San Juan Creek | Region III-IV transition with little marine influence | 10.4 | 35-40 | San Juan Creek younger river valleys with alluvial terraces and fans as a tributary to the upper Estrella River; 980-1,600 feet | Well to moderately drained, deep alluvial soils, sandy loams to loams to clay loams on the highest, oldest terraces.
Proposed San Miguel District | Region III with little marine influence | 11.4 | 30-35 | Footslope of Santa Lucia Range, with alluvial terraces of the Salinas and Estrella rivers and small recent alluvial fans; 580-1,600 feet | Deep, alluvial sandy loams to loams to a few clay loams (some with clay pans) from the river bottoms up onto the higher terraces.
Proposed Santa Margarita Ranch | Region II with moderate marine influence | 29 | 25 | High, steep mountain slopes of ancient Salinas River and upper reaches of incised contemporary Salinas River along the Rinconada Fault; 900-1,400 feet | Deep alluvial soils derived from many lithologies and varying in texture, with patchy residual soils on mountain slopes.
Proposed Templeton Gap District | Region II with pronounced marine influence | 20 | 20 | Santa Lucia Range mountain slopes and broad alluvial terraces; elevations 700-1,800 feet | Broad alluvial terraces and fans of Paso Robles Creek and the Salinas River over bedrock; alluvial soils of shallow to moderate depth and sandy to silty to clay loams; calcareous in places.
¹ The growing season referenced herein is from April 1 to October 31 in a calendar year.
² As described in T.D. ATF-216, 50 FR 43130, October 24, 1985, the primary feature of the Central Coast AVA is a marine-influenced climate characterized by marine fog.

Comments Received in Response to Notice No. 140

In Notice No. 140, TTB solicited comments on the accuracy of the name, boundary, climatic, and other required information submitted in support of the 11 petitions. In addition, given the proposed AVAs' location within the existing Paso Robles and Central Coast AVAs, TTB solicited comments on whether the evidence submitted in the petitions regarding the distinguishing features of the 11 proposed AVAs sufficiently differentiates them from the 2 established AVAs. TTB also asked for comments on whether the geographical features of any of the 11 proposed AVAs are so distinguishable from the surrounding Paso Robles or Central Coast AVAs that they should no longer be part of those established AVAs. Finally, TTB asked for comments regarding whether portions of the Paso Robles AVA that are not contained within any of the 11 proposed AVAs have been appropriately excluded from the proposed AVAs or whether these excluded areas should be incorporated into any of the proposed AVAs. The comment period closed on January 21, 2014.

In response to Notice No. 140, TTB received 45 comments, 2 of which were submitted by the same commenter and subsequently withdrawn at his request, making for a total of 43 comments. Among the commenters were local residents; local vineyard owners, managers, and winery owners; wine consumers; a real estate appraiser specializing in the valuation of vineyards and wineries in the Central Coast AVA; a certified professional soil scientist; a wine blogger; a wine retailer; and a major wine producing company. The comments are summarized below. None of the comments addressed the question of whether or not the 11 proposed AVAs are so distinguishable from the existing Central Coast and Paso Robles AVAs that they should no longer be part of these 2 AVAs. Additionally, TTB did not receive any comments in response to the question of whether any of the portions of the Paso Robles AVA that were not included in any of the 11 proposed AVAs should be incorporated into any of the proposed AVAs.

Comments Supporting the 11 Proposed AVAs

Thirty-five of the 43 comments specifically supported the establishment of the 11 proposed AVAs. Most of the supporting comments stated that establishing the smaller proposed AVAs—each with its own unique climate, soil, and terrain—will help consumers better understand the diversity of climates, soils, and terrains within the larger Paso Robles AVA, all of which affect the characteristics of the grapes grown in each region. Several commenters appreciated the depth of the 11 petitions, including a commenter who stated that the petitions “accurately reflect [the] intrinsic differences” of each of the proposed AVAs (comment 14) and another commenter stated that this action would result in “meaningful sub-appellations” (comment 19). A certified soil scientist stated that “the proposal is well documented with respect to the earth science and environmental conditions within the 11 proposed viticultural areas” (comment 17). One local vineyard owner (comment 7) noted that people who may be concerned that the 11 proposed AVAs would diminish the marketing value of the existing Paso Robles AVA name should remember that California has a conjunctive labeling law relating to the Paso Robles AVA. That law will require any label using one of the 11 proposed AVAs as an appellation of origin on its wine labels to also use the Paso Robles AVA name, unless the AVA name includes the term “Paso Robles.”

Comments Opposing the 11 Proposed AVAs

Four comments opposed the establishment of the 11 proposed AVAs (comments 1, 6, 8, and 11). These commenters included a local grape-grower, a local winemaker, and two individuals who did not list any affiliation. Most of the opposing comments stated that the Paso Robles AVA as a whole does not contain enough unique regions to justify 11 new AVAs within it, and that the proposed boundaries were “meaningless and arbitrary” (comment 1) and “determined for self-serving reasons” (comment 8). Another comment (comment 6) stated that there are already too many AVAs in the country and not enough “high quality wineries” in each of the 11 proposed AVAs to warrant their establishment. One of the comments (comment 8) also opposed the 11 proposed AVAs because “many vineyards were not personally notified of such a proposal.”

After careful review of the 11 petitions to establish the proposed AVAs, TTB has determined that each of the petitions contained enough evidence to distinguish each of the proposed AVAs from each other and from the surrounding Paso Robles AVA. TTB also notes that none of the four commenters who opposed the establishment of the proposed AVAs provided any evidence to support their claims that the boundaries are arbitrary or that the features of the proposed AVAs do not distinguish them from the surrounding regions and each other.

With regard to the comment that there are too many established AVAs, TTB notes that it does not have regulations limiting the total number of AVAs that may be established. Under 27 CFR 9.12, any member of the public may petition TTB to designate a grape-growing region as an AVA, provided that the petition includes evidence showing that the proposed AVA is known by its proposed name and showing that the proposed AVA has features affecting viticulture, such as climate, topography, geology, or soils, which distinguish it from the surrounding areas.

With regard to the comment concerning the quality of the wines produced within the 11 proposed AVAs, TTB notes that establishment of an AVA is neither an approval nor an endorsement by TTB of the wine produced in that area. Although some AVA petitions may include descriptions of awards and recognitions received by vintners within the proposed AVA, TTB does not require AVA petitions to include evidence of the quality of wines produced in the area, nor do any such quality claims play a role in determining whether or not TTB designates the area as an AVA. TTB designates AVAs in order to allow vintners to better describe the origin of their wines and to allow consumers to better identify wines they may purchase. Any benefit derived from the use of an AVA name, as well as any attribution of quality, reputation, or characteristic of the wine, would be the result of a proprietor's efforts and consumer acceptance of wines from that AVA.

With regard to the comment stating that vineyard owners were not personally notified of the proposals contained in Notice No. 140, TTB notes that no Federal law or regulation requires agencies to individually notify all possibly-affected businesses or persons of the publication of a proposed regulation. However, in order to notify the public at large of its proposed regulations and to solicit comments on them, TTB publishes all of its notices of proposed rulemaking, such as Notice No. 140, in the Federal Register, as required by the Administrative Procedure Act (see 5 U.S.C. 553). TTB also notes that the use of an AVA name on a wine label is not a regulatory mandate; rather its use is entirely voluntary. The establishment of an AVA does not obligate winemakers to use that AVA as an appellation of origin on their wine labels, nor are grape growers required to market their grapes as being grown within that AVA.

Proposed Boundary Changes

Two commenters requested changes to certain portions of the proposed AVA boundaries described in Notice No. 140. The owner of AmByth Estate vineyard stated that he believes his property is within the proposed El Pomar District AVA but has more features in common with the proposed Templeton Gap District AVA (comment 9). The commenter provided a satellite photo showing the location of his property between Lupine Lane and Redondo Road, which places his property entirely within the proposed El Pomar District AVA near the shared boundary with the proposed Templeton Gap District AVA. The commenter stated that the soils within his property are Linne Calodo soils, and that the breezes shift late in the morning to flow from the Templeton Gap and over the ridge into his vineyard. Finally, the commenter stated that his property receives the same amount of rainfall and has the same temperatures as the proposed Templeton Gap District AVA. However, the commenter did not provide any empirical evidence to support his claims of similar soil, wind patterns, rainfall, and temperature, nor did he provide any evidence that the “Templeton Gap District” name is associated with the region of his property.

The second comment was from the owner of Lime Ridge Vineyards (comment 15). The commenter stated that his vineyard is split between two parcels on opposite sides of State Route 41. The southeastern boundary of the proposed El Pomar District AVA follows State Route 41, which places one of his vineyard parcels within the proposed AVA and leaves the other parcel outside, within the Paso Robles AVA. The commenter requested that the boundary of the proposed El Pomar District AVA be redrawn to incorporate his entire vineyard. The commenter provided an agricultural preserve contract to show that his entire property was within the El Pomar Agricultural Preserve, which also includes the proposed El Pomar District AVA. The commenter also provided a soil survey map, a San Luis Obispo County rainfall map, and a topographic map as evidence that the soils, precipitation, and elevations within his property are identical to those of the proposed AVA.

In response to the two requests, the PRVAC submitted their own comment (comment 45). In its comment, the PRVAC stated that it has no objection to the request to modify the proposed El Pomar District AVA boundary to include the entire Lime Ridge Vineyard property, as the evidence provided by the vineyard owner indicates the physical characteristics of his property are consistent with those of the proposed El Pomar District AVA and that the “El Pomar District” name applies to the region of his property.

However, the PRVAC does not support modifying the proposed Templeton Gap District AVA boundary to include the AmByth Estate vineyard, as the characteristics of the vineyard are different from those of the proposed AVA. The PRVAC included a statement from Dr. Deborah Elliot-Fisk, a geography professor emeritus of the University of California-Davis, who provided PRVAC with the report on the distinguishing features of the Paso Robles AVA that became the basis for its 11 proposed AVA petitions, including the proposed Templeton Gap District and El Pomar District AVAs. In her statement, Dr. Elliot-Fisk wrote that the elevations within the AmByth Estate vineyard are lower than those of the proposed Templeton Gap District AVA, and that wind conditions within the vineyard would be different from the proposed AVA because the property is on the lee side of the ridgeline that forms the proposed boundary. Dr. Elliot-Fisk concluded that, in her scientific opinion, the conditions in the AmByth Estate vineyard are more similar to those of the proposed El Pomar District AVA, in which it currently sits, than those of the proposed Templeton Gap District AVA.

After reviewing the comments and evidence submitted by both vineyard owners as well as the comment from the PRVAC and the statement from Dr. Elliot-Fisk, TTB has determined that the owner of the Lime Ridge Vineyard provided adequate evidence that his property should be entirely included within the proposed El Pomar District AVA. Accordingly, TTB is modifying the boundaries of the proposed El Pomar District AVA. The modification will increase the size of the 21,300-acre proposed El Pomar District AVA by approximately 130 acres, including 10 acres of vineyards.

TTB also has determined that the owner of the AmByth Estate vineyard did not provide adequate evidence to support modifying the boundary of the proposed Templeton Gap District AVA, particularly in light of the statement by Dr. Elliot-Fisk that the terrain and winds of the proposed AVA are not consistent with those of the vineyard owner's property. Section 9.12 of the TTB regulations requires persons who wish to expand an AVA to submit evidence that the proposed expansion area has essentially the same distinguishing features as the original AVA. Additionally, evidence must be submitted showing that the name of the AVA applies to the proposed expansion area. The owner of the AmByth Estate stated that the soils and climate of his property are more similar to the proposed Templeton Gap District AVA than to the proposed El Pomar District AVA. However, he did not provide any empirical evidence to support his claims, such as a soil map or climate data. Additionally, the owner did not provide any evidence that his property is known more by the “Templeton Gap District” name than the “El Pomar District” name. As a result, TTB is not modifying the boundary of the proposed Templeton Gap District AVA.

Terms of Viticultural Significance

Bronco Wine Company (“Bronco”) submitted a comment in response to Notice No. 140 (comment 43). In its comment, Bronco stated that it takes no position regarding whether or not the 11 proposed AVAs should be established. However, Bronco does support TTB's proposal to designate “Paso Robles Estrella District” and “Paso Robles Estrella” as terms of viticultural significance, but not to designate “Estrella,” standing alone, as a term of viticultural significance. Bronco states that the company uses the trade name “Estrella River Winery” and the brand name “Estrella” on several of its wines. If TTB were also to designate the word “Estrella,” standing alone, as a term of viticultural significance, Bronco states that the company would no longer be able to use the brand or trade name because the wines do not meet the requirements to use “Paso Robles Estrella District” as an appellation of origin.

TTB agrees that the word “Estrella,” standing alone, should not be designated as a term of viticultural significance due to the potential for consumer confusion based on the multiple locations in the United States and other countries that are known as “Estrella.” TTB also agrees that designating “Estrella,” standing alone, as a term of viticultural significance would affect numerous wine producers who use the word “Estrella” in a brand name or trade name. Therefore, TTB is only designating “Paso Robles Estrella District” and “Paso Robles Estrella” as terms of viticultural significance, as proposed in Notice No. 140.

Technical Corrections

One of the 35 comments in support of the establishment of the 11 proposed AVAs also requested an amendment to the wording of the proposed boundary descriptions for the proposed El Pomar District and Paso Robles Geneseo AVAs (comment 44). The commenter stated that the road identified as “Branbrit Road” in paragraphs (c)(10) and (c)(11) of the proposed Paso Robles Geneseo District AVA regulatory text and paragraphs (c)(14) and (c)(15) of the proposed El Pomar District AVA regulatory text is not actually Branbrit Road but is instead an unpaved private driveway located approximately 429 feet east of Old Ford Road. The commenter requested that TTB change the proposed boundary descriptions to refer to “an unpaved private driveway east of Old Fort Road,” in order to more accurately describe the boundary of the proposed AVAs.

The PRVAC submitted a comment (comment 45) that, among other things, noted technical errors in the boundary descriptions of several of the proposed AVAs. The comment pointed out that the same road was misidentified as “Branbrit Road” in the proposed El Pomar District AVA and Paso Robles Geneseo District AVA boundaries, as discussed in the previous paragraph. The PRVAC also noted minor errors in the distances listed in paragraphs (c)(11) and (c)(18) of the proposed Creston District AVA regulatory text, paragraph (c)(9) of the proposed Paso Robles Highlands District AVA regulatory text, and paragraph (c)(8) of the proposed Templeton Gap District AVA regulatory text, as well as a typographical error in paragraph (c)(10) of the proposed San Juan Creek AVA regulatory text. Finally, the PRVAC believed that minor changes made by TTB to paragraph (c)(9) of the proposed El Pomar District AVA boundary description resulted in a small overlap with the proposed Paso Robles Geneseo District AVA in the vicinity of Creston Road and Grand Canyon Road.

After further review, TTB agrees with the commenters. In an attempt to identify as many of the roads by name as possible, TTB incorrectly identified a private driveway as “Branbrit Road.” The regulatory text of this final rule correctly identifies the road in question as a private driveway and not as a named road. This correction does not change the intended location of this portion of the concurrent El Pomar District-Paso Robles Geneseo District boundary. Additionally, TTB is deferring to PRVAC on the distances described in the proposed regulatory text and has made those changes in this final rule. Finally, TTB agrees that the roads used in paragraph (c)(9) of boundary description for the proposed El Pomar District AVA did cause an inadvertent overlap with the proposed Paso Robles Geneseo District AVA. As a result, TTB has amended the El Pomar District AVA boundary to follow Creston Drive all the way to the marked telephone line near an unmarked light-duty road known locally as Golden Hill Road, instead of following Creston Drive to Grand Canyon Drive and then following Grand Canyon Drive to the marked telephone line. None of these technical changes significantly increases or decreases the size of any of the proposed AVAs.

TTB Determination

After careful review of the petition and the comments received in response to Notice No. 140, TTB finds that the evidence provided by the petitioner supports the establishment of the 11 proposed AVAs. Accordingly, under the authority of the FAA Act, section 1111(d) of the Homeland Security Act of 2002, and part 4 of the TTB regulations, TTB establishes the “Adelaida District,” “Creston District,” “El Pomar District,” “Paso Robles Estrella District,” “Paso Robles Geneseo District,” “Paso Robles Highlands District,” “Paso Robles Willow Creek District,” “San Juan Creek,” “San Miguel District,” “Santa Margarita Ranch,” and “Templeton Gap District” AVAs within the existing Paso Robles AVA in San Luis Obispo County, California, effective 30 days from the publication date of this document. TTB is also modifying the boundary of the “El Pomar District” AVA to include the Lime Ridge Vineyard and is making several minor technical corrections to the regulatory text, as previously discussed.

TTB has also determined that, based on the evidence included in the petition and summarized in the table earlier in this document, each of the 11 AVAs shares enough general characteristics with both the Paso Robles and Central Coast AVAs to remain part of both AVAs.

Boundary Description

See the narrative description of each of the boundaries of the 11 AVAs in the regulatory text published at the end of this final rule.

Maps

The petitioner provided the required maps, and they are listed below in the regulatory text.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance, and the bottler must change the brand name and obtain approval of a new label. Similarly, if the AVA name appears in another reference on the label in a misleading manner, the bottler must obtain approval of a new label. Different rules apply if a wine has a brand name containing an AVA name that was used as a brand name on a label approved before July 7, 1986. See § 4.39(i)(2) of the TTB regulations (27 CFR 4.39(i)(2)) for details.

With the establishment of these 11 AVAs, their full names--“Adelaida District,” “Creston District,” “El Pomar District,” “Paso Robles Estrella District,” “Paso Robles Geneseo District,” “Paso Robles Highlands District,” “Paso Robles Willow Creek District,” “San Juan Creek,” “San Miguel District,” “Santa Margarita Ranch,” and “Templeton Gap District”—will be recognized names of viticultural significance under § 4.39(i)(3) of the TTB regulations (27 CFR 4.39(i)(3)). Additionally, TTB has also determined that the terms “Paso Robles Estrella” “Paso Robles Geneseo” and “Paso Robles Highlands,” standing alone, have viticultural significance in relation to the “Paso Robles Estrella District,” “Paso Robles Geneseo District,” and “Paso Robles Highlands District” AVAs respectively. The text of the regulations clarifies this point. Once this final rule becomes effective, wine bottlers using any of the 11 full AVA names, or “Paso Robles Estrella” standing alone, “Paso Robles Geneseo” standing alone, or “Paso Robles Highlands” standing alone, in a brand name, including a trademark, or in another label reference as to the origin of the wine, will have to ensure that the product is eligible to use the AVA name as an appellation of origin.

The establishment of these 11 AVAs will not affect any existing AVA. The establishment of the 11 AVAs will allow vintners to use “Adelaida District,” “Creston District,” “El Pomar District,” “Paso Robles Estrella District,” “Paso Robles Geneseo District,” “Paso Robles Highlands District,” “Paso Robles Willow Creek District,” “San Juan Creek,” “San Miguel District,” “Santa Margarita Ranch,” or “Templeton Gap District” as an appellation of origin for wines made from grapes grown within the respective AVA, if the wines meet the eligibility requirements for the appellation. Additionally, since all 11 of these new AVAs are located within the existing Paso Robles AVA, which, in turn, is located within the existing Central Coast AVA, vintners may use “Paso Robles” or “Central Coast” as an appellation of origin for wines made from grapes grown within any of the 11 AVAs, if the wines meet the eligibility requirements for the appellation.

Regulatory Flexibility Act

TTB certifies that this regulation will not have a significant economic impact on a substantial number of small entities. The regulation imposes no new reporting, recordkeeping, or other administrative requirement. Any benefit derived from the use of an AVA name would be the result of a proprietor's efforts and consumer acceptance of wines from that area. Therefore, no regulatory flexibility analysis is required.

Executive Order 12866

It has been determined that this rule is not a significant regulatory action as defined by Executive Order 12866 of September 30, 1993. Therefore, no regulatory assessment is required.

Drafting Information

Karen A. Thornton of the Regulations and Rulings Division drafted this final rule.

List of Subjects in 27 CFR Part 9

Wine.

The Regulatory Amendment

For the reasons discussed in the preamble, TTB amends title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding §§ 9.238 through 9.248 to read as follows:

§ 9.238 Adelaida District.

(a) Name. The name of the viticultural area described in this section is “Adelaida District.” For purposes of part 4 of this chapter, “Adelaida District” is a term of viticultural significance.

(b) Approved maps. The six United States Geological Survey (USGS) 1:24,000 scale topographic maps used to determine the boundary of the Adelaida District viticultural area are titled:

(1) Paso Robles, Calif., 1948, photorevised 1979;

(2) Templeton, Calif., 1948, photorevised 1979;

(3) York Mountain, Calif., 1948, photorevised 1979;

(4) Cypress Mountain, Calif., 1948, photorevised 1979;

(5) Lime Mountain, Calif., 1948, photorevised 1979; and

(6) Adelaida, Calif., 1948, photorevised 1978.

(c) Boundary. The Adelaida District viticultural area is located in San Luis Obispo County, California. The boundary of the Adelaida District viticultural area is as described below:

(1) The beginning point is on the Paso Robles map at the point where an unnamed light-duty road locally known as Wellsona Road crosses the main channel of the Salinas River, section 4, T26S/R12E. From the beginning point, proceed southerly (upstream) along the main channel of the Salinas River approximately 3.4 miles to the river's first intersection with the city of Paso Robles Corporate Boundary line, T26S/R12E; then

(2) Proceed westerly and then southerly along the meandering city of Paso Robles Corporate Boundary line, crossing onto the Templeton map, to the boundary line's intersection with Peachy Canyon Road, T26S/R12E; then

(3) Proceed westerly on Peachy Canyon Road approximately 2.6 miles, crossing to and from the Paso Robles map, to the road's intersection with an unnamed intermittent stream at the 1,100-foot elevation line near the center of section 36, T26S/R11; then

(4) Proceed south-southeasterly (downstream) along the unnamed intermittent stream approximately 1.2 miles to the stream's intersection with the R11E/R12E common boundary line, section 1, T27S/R11E; then

(5) Proceed south along the R11E/R12E common boundary line approximately 0.15 mile to the line's intersection with an unnamed light-duty road locally known as Kiler Canyon Road, section 1, T27S/R11E; then

(6) Proceed westerly on the light-duty and then unimproved Kiler Canyon Road approximately 4 miles, crossing onto the York Mountain map, to the road's intersection with Summit Canyon Road (locally known as Peachy Canyon Road), section 33, T26S/R11E; then

(7) Proceed southwesterly on Summit Canyon Road (locally known as Peachy Canyon Road) approximately 3.5 miles to the road's intersection with Willow Creek Road (locally known as Vineyard Drive), T27S/R11E; then

(8) Proceed southerly on Willow Creek Road (locally known as Vineyard Drive) approximately 0.4 mile to the road's intersection with Dover Canyon Road, T27S/R11E; then

(9) Proceed westerly on Dover Canyon Road approximately 2.8 miles to the road's intersection with an intermittent stream and an unnamed jeep trail in Dover Canyon, section 14, T27S/R10E; then

(10) Proceed west-northwesterly in a straight line approximately 5.7 miles, crossing onto the Cypress Mountain map, to the R9E/R10E common boundary line at the northwest corner of section 6, T27S/R10E; then

(11) Proceed north along the R9E/R10E common boundary line approximately 6.5 miles, crossing onto the Lime Mountain map, to the line's intersection with the second unnamed intermittent stream that crosses the western boundary line of section 31, T25S/R10E; then

(12) Proceed easterly in a straight line approximately 0.45 mile to a marked 1,165-foot peak in section 31, T25S/R10E, and then continue easterly in a straight line approximately 0.8 mile to the marked 1,135-foot peak in section 32, T25S/R10E; then

(13) Proceed due east-northeasterly in a straight line approximately 0.3 mile to the line's intersection with Dip Creek, section 32, T25S/R10E; then

(14) Proceed southeasterly and then easterly along Dip Creek approximately 6 miles, crossing onto the Adelaida map, to the creek's intersection with San Miguel Road (locally known as Chimney Rock Road), section 13, T26S/R10E; then

(15) Proceed easterly on San Miguel Road (locally known as Chimney Rock Road, then Nacimiento Lake Drive, then Godfrey Road, and then San Marcos Road) approximately 8.6 miles, crossing onto the Paso Robles map, to the road's intersection with an unnamed light-duty road locally known as Wellsona Road, section 6, T26S/R12E; then

(16) Proceed southeasterly and then easterly on Wellsona Road approximately 2.0 miles, returning to the beginning point.

§ 9.239 Creston District.

(a) Name. The name of the viticultural area described in this section is “Creston District.” For purposes of part 4 of this chapter, “Creston District” is a term of viticultural significance.

(b) Approved maps. The five United States Geological Survey (USGS) 1:24,000 scale topographic maps used to determine the boundary of the Creston District viticultural area are titled:

(1) Creston, Calif., 1948, photorevised 1980;

(2) Shedd Canyon, Calif., 1961;

(3) Wilson Corner, CA, 1995;

(4) Camatta Ranch, CA, 1995; and

(5) Santa Margarita, Calif., 1965, revised 1993.

(c) Boundary. The Creston District viticultural area is located in San Luis Obispo County, California. The boundary of the Creston District viticultural area is as described below:

(1) The beginning point is located on the Creston map along the common boundary line of the Huerhuero Land Grant and section 34, T27S/R13E, at the eastern-most intersection of State Route 41 and an unnamed light-duty road locally known as Cripple Creek Road. From the beginning point, proceed northerly on Cripple Creek Road approximately 1 mile to the road's intersection with an unnamed light duty road locally known as El Pomar Drive (at BM 1052), section 27, T27S/R13E; then

(2) Proceed northeasterly in a straight line approximately 0.75 mile to the unnamed 1,142-foot elevation point, T27S/R13E; then

(3) Proceed north in a straight line approximately 1.2 miles to the line's intersection with an unnamed light duty road locally known as Creston Road at the southwest corner of section 14, T27S/R13E; then

(4) Proceed east on Creston Road approximately 0.35 mile to the road's intersection with an unnamed light-duty road known locally as Geneseo Road (at BM 1014), T27S/R13E; then

(5) Proceed north-northwesterly on Geneseo Road approximately 0.7 mile to the road's intersection with a jeep trail (locally known as Rancho Verano Place) and the western boundary line of section 14, T27S/R13E; then

(6) Proceed due east in a straight line approximately 0.2 mile to the line's intersection with the Huerhuero Land Grant boundary line, section 14, T27S/R13E; then

(7) Proceed north-northeasterly along the Huerhuero Land Grant boundary line approximately 0.7 mile to the land grant's northern-most point, and then continue east-southeasterly along the land grant's boundary line approximately 0.4 mile to the line's intersection with the northern boundary line of section 14, T27S/R13E; then

(8) Proceed east approximately 1.3 miles along the northern boundary lines of sections 14 and 13, T27S/R13E, and continue east approximately 0.25 mile along the northern boundary line of section 18, T27S/R14E, to the T-intersection of two unnamed unimproved roads; then

(9) Proceed east-southeasterly on the generally east-west unnamed unimproved road approximately 0.85 mile, crossing onto the Shedd Canyon map, to the road's intersection with the eastern boundary line of section 18, T27S/R14E; then

(10) Proceed southeasterly in a straight line approximately 1.2 miles to the 1,641-foot elevation point located at the southeast corner of section 17, T27S/R14E; then

(11) Proceed southeasterly approximately 0.55 mile in a straight line to BM 1533 (located beside Creston Shandon Road (State Route 41)) and continue southeasterly in a straight line approximately 1.8 miles to the 1,607 elevation point near the western boundary line of section 27, T27S/R14E; then

(12) Proceed east-southeasterly in a straight line approximately 1.1 miles to the 1.579-foot elevation point at the southeast corner of section 27, T27S/R14E; then

(13) Proceed east approximately 1.9 miles along the northern boundary lines of sections 35 and 36, T27S/R14E, to the section 36 boundary line's intersection with Indian Creek; then

(14) Proceed southerly (upstream) along Indian Creek approximately 5.3 miles in straight-line distance, crossing onto the Wilson Corner map, to the creek's intersection with an unnamed light-duty road locally known as La Panza Road, section 20, T28S/R15E; then

(15) Proceed southeasterly on La Panza Road approximately 0.15 mile to the road's intersection with State Route 58 at Wilson Corner, section 29, T28S/R15E; then

(16) Proceed easterly on State Route 58 approximately 1.4 miles, crossing onto the Camatta Ranch map, to the road's intersection with the eastern boundary line of section 28, T28S/R15E; then

(17) Proceed south approximately 1.5 miles along the eastern boundary lines of sections 28 and 33, T28S/R15E, to the T28S/T29S common boundary line at the southeast corner of section 33, T28S/15E; then

(18) Proceed west along the T28S/T29S common boundary line approximately 9.1 miles, crossing over the Wilson Corner map and onto the Santa Margarita map, to the boundary line's intersection with the Middle Branch of Huerhuero Creek, section 31, T28S/R14E; then

(19) Proceed north-northwesterly (downstream) along the Middle Branch of Huerhuero Creek approximately 2.3 miles in straight-line distance to the creek's intersection with the southern boundary line of section 24, T28S/R13E; then

(20) Proceed west along the southern boundary line of section 24, T28S/R13E, approximately 0.45 mile to that section's southwestern corner; then

(21) Proceed north along the western boundary line of section 24, T28S/R13E, approximately 1.0 mile to the boundary line's intersection with an unnamed unimproved road at the section's northwestern corner; then

(22) Proceed northwesterly on the unnamed unimproved road approximately 0.7 mile to the road's intersection with State Route 229 near BM 1138, section 14, T28S/R13E; then

(23) Proceed northeasterly on State Route 229 approximately 0.2 mile to the road's intersection with the Huerhuero Land Grant boundary line, section 14, T28S/R13E; then

(24) Proceed north-northwesterly along the boundary of the Huerhuero Land Grant approximately 3 miles, crossing onto the Creston map and returning to the beginning point.

§ 9.240 El Pomar District.

(a) Name. The name of the viticultural area described in this section is “El Pomar District.” For purposes of part 4 of this chapter, “El Pomar District” is a term of viticultural significance.

(b) Approved maps. The two United States Geological Survey (USGS) 1:24,000 scale topographic maps used to determine the boundary of the El Pomar District viticultural area are titled:

(1) Templeton, Calif., 1948, photorevised 1979; and

(2) Creston, Calif., 1948, photorevised 1980.

(c) Boundary. The El Pomar District viticultural area is located in San Luis Obispo County, California. The boundary of the El Pomar District viticultural area is as described below:

(1) The beginning point is on the southeastern portion of the Templeton map at the intersection of State Route 41 and an unnamed light-duty road locally known as Homestead Road, east-northeast of Atascadero within the Asuncion Land Grant. From the beginning point, proceed north-northwesterly on Homestead Road approximately 1.1 miles to the road's intersection with an unnamed light-duty road locally known as South El Pomar Road, Asuncion Land Grant; then

(2) Proceed north-northwesterly in a straight line approximately 0.8 mile to the 1,452-foot elevation point, and continue north-northwesterly in a straight line approximately 0.3 mile to an unnamed peak above the 1,440-foot elevation line (marked on the map by a triangle), Asuncion Land Grant; then

(3) Proceed northeasterly in a straight line approximately 0.3 mile to the 1,344-foot elevation point, Asuncion Land Grant; then

(4) Proceed northerly in a series of straight lines, totaling approximately 1.4 miles, through the 1,338-foot and 1,329-foot elevation points to the intersection of two unnamed light-duty roads locally known as El Pomar Drive and Hollyhock Lane in the Santa Ysabel Land Grant, T27S/R12E; then

(5) Proceed north-northwesterly on Hollyhock Lane approximately 1 mile to the road's intersection with an unnamed light-duty road locally known as Neal Springs Road, Santa Ysabel Land Grant; then

(6) Proceed west on Neal Springs Road approximately 0.4 mile to the road's intersection with an unnamed light-duty road locally known as South River Road, Santa Ysabel Land Grant; then

(7) Proceed northwesterly and then northerly on South River Road approximately 2.8 miles to the road's intersection with an unnamed light-duty road locally known as Charolais Road (0.1 mile north of a marked windmill), Santa Ysabel Land Grant; then

(8) Proceed east-southeasterly on Charolais Road approximately 1.4 miles to the road's intersection with an unnamed light-duty road locally known as Creston Road, Santa Ysabel Land Grant; then

(9) Proceed north and then west-northwesterly on Creston Road approximately 1.9 miles to the road's intersection with a marked telephone line (approximately 1.3 miles due east of U.S. Route 101) in the Santa Ysabel Land Grant, T26/R12E; then

(10) Proceed easterly in a straight line approximately 2 miles, crossing onto the Creston map, to the line's intersection with the point where the R12E/R13E common boundary line crosses Huerhuero Creek, western boundary line of section 31, T26S/R13E; then

(11) Proceed southeasterly (upstream) along Huerhuero Creek approximately 2.4 miles to the creek's first confluence with an unnamed intermittent stream in the northwest quadrant of section 8, T27S/R13E; then

(12) Proceed southeasterly in a straight line approximately 1.4 miles to the 1,255-foot elevation point in the northwest quadrant of section 16, T27S/R13E; then

(13) Proceed easterly in a straight line approximately 0.75 mile to an unnamed peak above the 1,380-foot elevation line (marked on the map with a triangle), section 16, T27S/R13E; then

(14) Proceed east-southeasterly in a straight line approximately 0.6 mile to the 1,342-foot elevation point in section 15, T27S/R13E, and then continue east-southeasterly in a straight line approximately 0.6 mile to the northern end of a marked, unnamed light-duty road (locally known as a private driveway located approximately 430 feet east of Old Ford Road), section 15, T27S/R13E; then

(15) Proceed south on the marked, unnamed light-duty road (locally known as a private driveway located approximately 430 feet east of Old Ford Road) approximately 0.3 mile to the road's intersection with an unnamed light-duty road locally known as Creston Road, section 15, T27S/R13E; then

(16) Proceed east on Creston Road approximately 0.2 mile to the road's intersection with northeast corner of section 22, T27S/R13E; then

(17) Proceed southerly in a straight line approximately 1.2 miles to the 1,142 elevation point in the Huerhuero Land Grant (0.1 mile south of a pipe line), T27S/R13E; then

(18) Proceed southwesterly in a straight line approximately 0.75 mile to BM 1052 located at the intersection of two unnamed light-duty roads locally known locally as El Pomar Drive and Cripple Creek Road, section 27, T27S/R13E; then

(19) Proceed south on Cripple Creek Road approximately 1.0 mile to the road's eastern-most intersection with State Route 41, section 34, T27S/R13E; then

(20) Proceed southwesterly on State Route 41 approximately 0.5 mile to the marked 1,128-foot elevation point, section 3, T28S/R13E; then

(21) Proceed south-southwesterly in a straight line approximately 1.1 miles to the southeast corner of section 4, T28S/R13E; then

(22) Proceed east along the southern boundary of section 4 approximately 0.75 mile to the section line's intersection with State Route 41; then

(23) Proceed southwesterly on State Route 41 approximately 4.5 miles, crossing onto the Templeton map and returning to the beginning point.

§ 9.241 Paso Robles Estrella District.

(a) Name. The name of the viticultural area described in this section is “Paso Robles Estrella District.” For purposes of part 4 of this chapter, “Paso Robles Estrella District” and “Paso Robles Estrella” are terms of viticultural significance.

(b) Approved maps. The five United States Geological Survey 1:24,000 scale topographic maps used to determine the boundary of the Paso Robles Estrella District viticultural area are titled:

(1) Paso Robles, Calif., 1948, photorevised 1979;

(2) San Miguel, Calif., 1948, photorevised 1979;

(3) Ranchito Canyon, Calif., 1948, photorevised 1976;

(4) Estrella, Calif., 1948, photorevised 1979; and

(5) Shandon, Calif., 1961.

(c) Boundary. The Paso Robles Estrella District is located in San Luis Obispo County, California. The boundary of the Paso Robles Estrella District is as described below:

(1) The beginning point is on the Paso Robles map at the confluence of San Jacinto Creek and the Estrella River, section 26, T25S/R12E. From the beginning point, proceed north-northeasterly (upstream) along San Jacinto Creek approximately 6.5 miles, crossing onto the San Miguel map, to the creek's intersection with the San Luis Obispo County-Monterey County boundary line, northern boundary of section 1, T25S/R12E; then

(2) Proceed east along the San Luis Obispo County-Monterey County boundary line approximately 2.4 miles, crossing onto the Ranchito Canyon map, to the county line's intersection with an unnamed light-duty road locally known as Ranchita Canyon Road, northern boundary of section 4, T25S/R13E; then

(3) Proceed east-southeasterly in a straight line approximately 4.5 miles to the 1,819-foot elevation point in the northwestern quadrant of section 18, T25S/R14E; then

(4) Proceed southeasterly in a straight line approximately 1.6 miles, crossing over the northeastern corner of the Estrella map and then onto the Shandon map, to the 1,614-foot elevation point in the northwestern quadrant of section 20, T25S/R14E; then

(5) Proceed southeasterly in a straight line approximately 1.05 miles to the 1,601-foot elevation point in the northeastern quadrant of section 29, T25S/R14E; then

(6) Proceed east-southeasterly in a straight line approximately 2.2 miles to the 1,562-foot elevation point, section 34, T25S/R14E; then

(7) Proceed south-southeasterly in a straight line approximately 3 miles to the 1,481-foot “Estrella” elevation point, section 14, T26S/R14E; then

(8) Proceed southwesterly in a straight line approximately 0.95 mile to the intersection of the eastern boundary line of section 15, T26S/R14E, and U.S. 446/State Route 41 (now known as State Route 46); then

(9) Proceed south along the eastern boundary lines of sections 15 and 22, approximately 0.55 mile, to the intersection of the section 22 boundary line and the unnamed intermittent stream that flows from Shedd Canyon, section 22, T26S/R14E; then

(10) Proceed southeasterly and then southerly (upstream) along the unnamed intermittent stream located within Shedd Canyon approximately 1.9 miles to the stream's intersection with the southern boundary line of section 26, T26S/R14E; then

(11) Proceed west along the southern boundary lines of sections 26, 27 and 28, T26S/R14E, approximately 1.9 miles to the section 28 boundary line's intersection with an unnamed unimproved road located between the 1,220- and 1,240-foot contour lines, section 28, T26S/R14E; then

(12) Proceed southwesterly along the unnamed unimproved road approximately 0.4 miles to a fork and then continue on the westerly fork of the unnamed unimproved road approximately 0.3 miles to the 1,385-foot elevation point, section 32, T26S/R14E; then

(13) Proceed west-northwesterly in a straight line approximately 1.6 miles, crossing onto the Estrella map, to the line's intersection with an unnamed unimproved road and the southern boundary of section 30, T26R/R14E; then

(14) Proceed northerly along the unnamed unimproved road approximately 2.0 miles to the road's intersection with an unnamed light-duty road known locally as River Grove Drive in Whitley Gardens, T26S/R14E; then

(15) Proceed westerly in a straight line less than 0.1 mile to the intersection of the western boundary line of section 19, T26S/R14E and State Route 46, and then continue west on State Route 46 approximately 2.1 miles to the southwest corner of section 14, T26S/R13E; then

(16) Proceed west along the southern boundary lines of sections 14, 15, 16, 17, and 18 (largely concurrent with State Route 46) approximately 4 miles to the southwest corner of section 18, T26S/R13E; then

(17) Proceed southwest in a straight line approximately 1.45 miles, crossing onto the Paso Robles map, to the line's intersection with State Route 46 at the southwestern corner of section 24, T26S/R12E; then

(18) Proceed west on State Route 46 approximately 2.4 miles to the road's intersection with the Salinas River at the city of Paso Robles, T26S/R12E; then

(19) Proceed northerly (downstream) along the main channel of the Salinas River approximately 5.2 miles in straight-line distance to the river's intersection with the northern boundary line of section 33, T25S/R12E; then

(20) Proceed east along the northern boundary lines of sections 33, 34, and 35, T25S/R12E, approximately 1.8 miles to the intersection of the section 35 boundary line with the Estrella River; then

(21) Proceed northerly (downstream) along the main channel of the Estrella River approximately 0.7 mile, returning to the beginning point.

§ 9.242 Paso Robles Geneseo District.

(a) Name. The name of the viticultural area described in this section is “Paso Robles Geneseo District.” For purposes of part 4 of this chapter, “Paso Robles Geneseo District” and “Paso Robles Geneseo” are terms of viticultural significance.

(b) Approved maps. The four United States Geological Survey 1:24,000 scale topographic maps used to determine the boundary of the Paso Robles Geneseo District viticultural area are titled:

(1) Paso Robles, Calif., 1948, photorevised 1979;

(2) Estrella Calif., 1948; photorevised 1979;

(3) Creston, Calif., 1948; photorevised 1980; and

(4) Templeton, Calif., 1948; photorevised 1979.

(c) Boundary. The Paso Robles Geneseo District is located in San Luis Obispo County, California. The boundary of the Paso Robles Geneseo District is as described below:

(1) The beginning point is on the Paso Robles map at the intersection of State Route 46 and Golden Hill Road at the northwest corner of section 26, T26S/R12E. From the beginning point, proceed east on State Route 46 for 1 mile to the southwest corner of section 24, T26S/R12E; then

(2) Proceed northeast in a straight line approximately 1.45 miles, crossing onto the Estrella map, to the northwest corner of section 19, T26S/R13E; then

(3) Proceed east along the northern boundary lines of sections 19 and 20, T26S/R13E, to the section 20 boundary line's intersection with State Route 46 and then continue east on State Route 46 to the road's intersection with the eastern boundary line of section 24, T26S/R13E; then

(4) Proceed easterly in a straight line less than 0.1 mile to the intersection of an unnamed light duty road locally known as River Grove Drive and an unnamed unimproved road in Whitley Gardens, section 19, T26S/R14E; then

(5) Proceed south on the unnamed unimproved road approximately 2 miles to the road's intersection with the southern boundary line of section 30, T26S/R14E; then

(6) Proceed west-southwesterly in a straight line approximately 1.9 miles, crossing onto the Creston map, to the intersection of an unnamed light duty road locally known as Geneseo Road and an unnamed unimproved road locally known as Dry Canyon Road (just east of a windmill within Dry Canyon), section 35, T26S/R13E; then

(7) Proceed south on Geneseo Road approximately 1 mile to the road's intersection with the eastern boundary line of section 3, T27S/R13E (near BM 1200); then

(8) Proceed south along the eastern boundary lines of sections 3, 10, and 15, T27S/R13E, approximately 1.9 miles to the first intersection of the section 15 eastern boundary line with the unnamed light-duty road locally known as Geneseo Road, section 15, T27S/R13E; then

(9) Proceed south-southeasterly on Geneseo Road approximately 0.85 mile to the road's intersection with an unnamed light duty road locally known as Creston Road, Huerhuero Land Grant, T27S/R13E; then

(10) Proceed west on Creston Road 0.5 mile to the road's intersection with a marked, unnamed light-duty road (locally known as a private driveway located approximately 430 feet east of Old Ford Road), southern boundary of section 15, T27S/R13E; then

(11) Proceed north on the marked, unnamed light-duty road (locally known as a private driveway located approximately 430 feet east of Old Ford Road) approximately 0.3 mile to the road's end, section 15, T27S/R13E; then

(12) Proceed west-northwesterly in a straight line approximately 0.6 mile to the 1,342 foot elevation point in section 15, T27S/R13E, and then continue west-northwesterly in a straight line approximately 0.6 mile to an unnamed peak above the 1,380-foot elevation line (marked on the map with a triangle), section 16, T27S/R13E; then

(13) Proceed westerly in a straight line approximately 0.75 mile to the 1,255-foot elevation point in the northwest quadrant of section 16, T27S/R13E; then

(14) Proceed northwesterly in a straight line approximately 1.4 miles to the confluence of Huerhuero Creek and an unnamed intermittent stream in the northwest quadrant of section 8, T27S/R13E; then

(15) Proceed northwesterly (downstream) along Huerhuero Creek approximately 2.4 miles to the creek's intersection with the R12E/R13E common boundary line, section 31, T26S/R13E; then

(16) Proceed westerly in a straight line approximately 2.3 miles, crossing onto the Templeton map, to the line's intersection with the junction of a marked telephone line and an unnamed light duty road locally known as Creston Road (approximately 1.3 miles due east of U.S. Route 101 in the Santa Ysabel Land Grant, T26S/R12E; then

(17) Proceed west on Creston Road approximately 0.05 mile to the road's intersection with an unnamed light-duty road locally known as Rolling Hills Road, Santa Ysabel Land Grant; then

(18) Proceed north on Rolling Hills Road, crossing onto the Paso Robles map (where a portion of Rolling Hills Road is labeled Golden Hill Road), and continue north on Rolling Hills Road and then Golden Hill Road (a total distance of approximately 1.5 miles), returning to the beginning point.

§ 9.243 Paso Robles Highlands District.

(a) Name. The name of the viticultural area described in this section is “Paso Robles Highlands District.” For purposes of part 4 of this chapter, “Paso Robles Highlands District” and “Paso Robles Highlands” are terms of viticultural significance.

(b) Approved maps. The six United States Geological Survey 1:24,000 scale topographic maps used to determine the boundary of the Paso Robles Highlands District viticultural area are titled:

(1) Camatta Ranch, CA, 1995;

(2) Wilson Corner, CA, 1995;

(3) Shedd Canyon, Calif., 1961, revised 1993;

(4) Camatta Canyon, Calif., 1961, revised 1993;

(5) Holland Canyon, Calif., 1961, revised 1993; and

(6) La Panza Ranch, CA, 1995.

(c) Boundary. The Paso Robles Highlands District viticultural area is located in San Luis Obispo County, California. The boundary of the Paso Robles Highlands District viticultural area is as described below:

(1) The beginning point is on the Camatta Ranch map along the T28S/T29S common boundary line (also concurrent with the northern boundary line of the Los Padres National Forest) at the southwest corner of section 34, T28S/R15E. From the beginning point, proceed north along the western boundary lines of sections 34 and 27, T28S/R15E, approximately 1.5 miles to the section 27 boundary line's intersection with State Route 58; then

(2) Proceed west on State Route 58 approximately 1.5 miles, crossing onto the Wilson Corner map, to the road's intersection with an unnamed light-duty road known locally as La Panza Road at Wilson Corner, section 29, T28S/R15E; then

(3) Proceed northwest on the unnamed light-duty road known locally as La Panza Road approximately 0.15 mile to the road's intersection with Indian Creek, section 20, T28S/R15E; then

(4) Proceed north-northwesterly (downstream) along the meandering Indian Creek approximately 8.5 miles in straight-line distance, crossing onto the Shedd Canyon map, to the creek's intersection with the northern boundary line of section 13, T27S/R14E, within Shedd Canyon; then

(5) Proceed east approximately 6.2 miles along the northern boundary line of section 13, T27S/R14E, and the northern boundary lines of sections 18, 17, 16, 15, 14, and 13, T27S/R15E, crossing onto the Camatta Canyon map, to the intersection of the northern boundary line of section 13, T27S/R15E, with the 1,200-foot elevation line on the western edge of the San Juan Valley; then

(6) Proceed southerly then easterly along the 1,200-foot elevation line to the elevation line's first intersection with the eastern boundary line of section 13, T27S/R15E; then

(7) Proceed south along the eastern boundary line of section 13, T27S/R15E, approximately 0.2 mile to the section 13 boundary line's second intersection with an unnamed unimproved road; then

(8) Proceed southeasterly on the unnamed unimproved road approximately 3 miles as it follows the southwestern edge of the San Juan Valley to the road's intersection with the eastern boundary line of section 29, T27S/R16E; then

(9) Proceed south along the eastern boundary line of section 29, T27S/R16E, approximately 0.3 mile to the section line's intersection with the 1,300-foot elevation line; then

(10) Proceed southeasterly along the 1,300-foot elevation line approximately 3.7 miles as it follows the southwestern edge of the San Juan Valley, crossing onto the Holland Canyon map, to the elevation line's first intersection with the eastern boundary line of section 3, T28S/R16E; then

(11) Proceed south along the eastern boundary line of section 3, T28S/R16E, approximately 0.55 mile to the section boundary line's fifth intersection with the 1,300-foot elevation line (northwest of Pear Tree Spring); then

(12) Proceed southeasterly along the 1,300-foot elevation line approximately 1.3 miles to the elevation line's intersection with an unnamed tributary of San Juan Creek (approximately 0.35 mile east of the 1,686-foot San Juan peak), section 11, T28S/R16E; then

(13) Proceed southerly in a straight line approximately 0.6 mile, crossing onto the La Panza Ranch map, to the northwestern corner of section 13, T28S/R16E; then

(14) Proceed east along the northern boundary line of section 13, T28S/R16E, approximately 0.7 mile to the section boundary line's intersection with an unnamed unimproved road; then

(15) Proceed south-southeasterly on the unnamed unimproved road approximately 0.85 mile to the road's intersection with the eastern boundary line of section 13, T28S/R16E, which is concurrent with the R16E/R17E common boundary line; then

(16) Proceed south along the R16E/R17E common boundary line approximately 3.35 miles to the southeast corner of section 36, T28S/R16E, which is concurrent with the eastern-most intersection of the R16E/R17E and T28S/T29S common boundary lines; then

(17) Proceed west along the T28S/R29S common boundary line approximately 9.1 miles, crossing onto the Camatta Ranch map, returning to the beginning point.

§ 9.244 Paso Robles Willow Creek District.

(a) Name. The name of the viticultural area described in this section is “Paso Robles Willow Creek District.” For purposes of part 4 of this chapter, “Paso Robles Willow Creek District” is a term of viticultural significance.

(b) Approved maps. The three United States Geological Survey 1:24,000 scale topographic maps used to determine the boundary of the Paso Robles Willow Creek District viticultural area are titled:

(1) York Mountain, Calif., 1948, photorevised 1979;

(2) Templeton, Calif., 1948, photorevised 1979; and

(3) Paso Robles, Calif. 1948, photorevised 1979.

(c) Boundary. The Paso Robles Willow Creek District is located in San Luis Obispo County, California. The boundary of the Paso Robles Willow Creek District is as follows:

(1) The beginning point is on the York Mountain map at the intersection of Summit Canyon Road (locally known as Peachy Canyon Road), and an unnamed unimproved road locally known as Kiler Canyon Road, section 33, T26S/R11E. From the beginning point, proceed southerly and then southwesterly on Summit Canyon Road (locally known as Peachy Canyon Road) approximately 3.3 miles to the road's intersection with Willow Canyon Road (locally known as Vineyard Drive), Paso de Robles Land Grant; then

(2) Proceed southerly on Willow Creek Road (locally known as Vineyard Drive) approximately 0.35 mile to its intersection with Dover Canyon Road; then

(3) Proceed westerly then southerly on Dover Canyon Road approximately 1 mile to the road's intersection with the common boundary line of section 18, T27S/R11E, and the Paso de Robles Land Grant; then

(4) Proceed east, south, and southeast along the Paso de Robles Land Grant Boundary line approximately 1.9 miles to the fourth crossing of an unnamed intermittent tributary of Jack Creek by the common boundary line of section 20, T27S/R11E, and the Paso de Robles Land Grant; then

(5) Proceed northerly (downstream) along the unnamed intermittent tributary of Jack Creek approximately 0.15 mile to the tributary's confluence with Jack Creek, Paso de Robles Land Grant; then

(6) Proceed southeasterly (downstream) along Jack Creek approximately 1.8 miles to the creek's intersection with an unnamed light-duty road locally known as Jack Creek Road (near BM 920), Paso de Robles Land Grant; then

(7) Proceed northeasterly and then east-southeasterly along Jack Creek Road approximately 1 mile to the road's intersection with State Route 46; then

(8) Proceed east on State Route 46 approximately 0.15 mile to the road's intersection with an unnamed light-duty road locally known as Hidden Valley Road, Paso de Robles Land Grant; then

(9) Proceed southeasterly and then easterly on Hidden Valley Road approximately 2.2 miles, crossing onto the Templeton map, to the road's intersection with an unnamed light-duty road locally known as Vineyard Drive, Paso de Robles Land Grant; then

(10) Proceed east on Vineyard Drive approximately 0.85 mile to the road's intersection with an unnamed light-duty road locally known as S. Bethel Road, Paso de Robles Land Grant; then

(11) Proceed north-northeasterly on S. Bethel Road and then N. Bethel Road approximately 1.7 miles to the road's fifth intersection with an unnamed intermittent stream, Paso de Robles Land Grant; then

(12) Proceed westerly (upstream) along the unnamed intermittent stream and then the stream's middle branch approximately 1.1 miles to the marked end of the stream, and then continue due west in a straight line approximately 0.05 mile to State Route 46 (Cayucos Road), Paso de Robles Land Grant; then

(13) Proceed northeasterly on State Route 46 (Cayucos Road) approximately 0.8 mile to BM 924, Paso de Robles Land Grant; then

(14) Proceed due north in a straight line to the southeast corner of section 12, T27S/R11E, and continue north along the eastern boundary line of section 12, a total of approximately 1.1 miles, to the section boundary line's intersection with a light-duty road locally known as Live Oak Road; then

(15) Proceed easterly on Live Oak Road approximately 0.2 mile to the road's intersection with an unnamed intermittent stream, Paso de Robles Land Grant; then

(16) Proceed northwesterly (upstream) along the unnamed intermittent stream approximately 0.35 mile to the eastern boundary line of section 12, T27S/R11E; then

(17) Proceed north along the eastern boundary line of section 12, T27S/R11E, to the section's northeast corner, and then proceed east along the southern boundary line of section 6, T27S/R11E, a total of approximately 1.3 miles, to the intersection of the section 6 boundary line with an unnamed light-duty road locally known as Arbor Road; then

(18) Proceed south-southeasterly on Arbor Road approximately 0.35 mile to the road's first intersection with an unnamed intermittent stream, Paso de Robles Land Grant; then

(19) Proceed southeasterly and then easterly (downstream) along the unnamed intermittent stream approximately 1.4 miles to the stream's intersection with an unnamed light-duty road known locally as S. Vine Street, just west of the U.S. 101/State Route 46 interchange, Paso de Robles Land Grant; then

(20) Proceed northerly along S. Vine Street (which generally parallels U.S. 101) approximately 1.8 miles to the street's intersection with the marked city of Paso Robles Corporate Boundary line (concurrent with the locally-known intersection of S. Vine and 1st Streets), Paso de Robles Land Grant; then

(21) Proceed west, north, west, and north again along the marked city of Paso Robles Corporate Boundary line approximately 1 mile to the boundary line's junction with the intersection of an unnamed light-duty road locally known as Merry Hill Road and Peachy Canyon Road, Paso de Robles Land Grant; then

(22) Proceed westerly on Peachy Canyon Road approximately 2.6 miles, crossing to and from the Paso Robles map, to the road's intersection with an unnamed intermittent stream near the center of section 36, T26S/R11E; then

(23) Proceed south-southeasterly (downstream) along the unnamed intermittent stream approximately 1.2 miles to the stream's intersection with the eastern boundary line of section 1, T27S/R11E; then

(24) Proceed south along the eastern boundary line of section 1, T27S/R11E, approximately 0.15 mile to the line's intersection with an unnamed light-duty road locally known as Kiler Canyon Road, section 1, T27S/R11E; then

(25) Proceed westerly on Kiler Canyon Road approximately 3.7 miles, crossing onto the York Mountain map, returning to the beginning point.

§ 9.245 San Juan Creek.

(a) Name. The name of the viticultural area described in this section is “San Juan Creek.” For purposes of part 4 of this chapter, “San Juan Creek” is a term of viticultural significance.

(b) Approved maps. The six United States Geological Survey 1:24,000 scale topographic maps used to determine the boundary of the San Juan Creek viticultural area are titled:

(1) Cholame, Calif., 1961, revised 1993;

(2) Camatta Canyon, Calif., 1961, revised 1993;

(3) Holland Canyon, Calif. 1961, revised 1993;

(4) La Panza Ranch, CA, 1995;

(5) Shedd Canyon, Calif., 1961, revised 1993; and

(6) Shandon, Calif., 1961, revised 1993.

(c) Boundary. The San Juan Creek viticultural area is located in San Luis Obispo County, California. The boundary of the San Juan Creek viticultural area is as described below:

(1) The beginning point is on the Cholame map in the Shandon Valley at the intersection of State Route 41 and San Juan Road, northern boundary of section 21, T26S/R15E. From the beginning point on the Cholame map, and crossing onto the Camatta Canyon map and then the Holland Canyon map, proceed south and then southeasterly approximately 16 miles along the eastern edge of the Shandon Valley and then the San Juan Valley by following San Juan Road (also locally known in places as Shandon San Juan Road, Camatti-Shandon Road, Bitterwater Canyon Road, and then San Juan Road again), passing the San Juan Ranch (where to road is marked as unimproved), to the road's intersection with the San Luis Obispo-Kern County boundary line at the eastern boundary line of section 12, T28S/R16E, which is also concurrent with the R16E/R17E common boundary line; then

(2) Proceed south along the R16E/R17E common boundary line approximately 1.3 miles, crossing onto the La Panza Ranch map, to the boundary line's intersection with an unnamed unimproved road locally known as Navajo Creek Road, immediately south of the 1,340-foot elevation line, section 13, T28S/R16E; then

(3) Proceed north-northwesterly on Navajo Creek Road to the road's intersection with the southern boundary line of section 12, T28S/R16E; then

(4) Proceed west along the southern boundary line of section 12, T28S/R16E, approximately 0.7 mile to the section's southwestern corner; then

(5) Proceed northerly in a straight line approximately 0.6 mile, crossing onto the Holland Canyon map, to the intersection of the 1,300-foot elevation line and an unnamed tributary of San Juan Creek (approximately 0.35 mile east of the 1,686-foot San Juan peak), in section 11, T28S/R16E; then

(6) Proceed northwesterly along the 1,300-foot elevation line approximately 1.3 miles to the line's first intersection with the western boundary line of section 2, T28S/R16E, northwest of Pear Tree Spring; then

(7) Proceed north along the western boundary line of section 2 approximately 0.55 to the section boundary line's last intersection with the 1,300-foot elevation line, near the northwestern corner of section 2, T28S/R16E; then

(8) Proceed northwesterly along the meandering 1,300-foot elevation line approximately 3.7 miles, crossing onto the Camatta Canyon map, to the elevation line's intersection with the western boundary line of section 28, T27S/R16E; then

(9) Proceed north along the western boundary line of section 28 approximately 0.15 mile to the section boundary line's intersection with an unnamed unimproved road, section 28, T27S/R16E; then

(10) Proceed northwesterly on the unnamed unimproved road approximately 3 miles as it follows the southwestern edge of the San Juan Valley to the road's intersection with western boundary line of section 18, T27S/R16E; then

(11) Proceed north along the western boundary line of section 18, T27S/R16E, approximately 0.2 mile to the section boundary line's intersection with 1,200-foot elevation line, section 18, T27S/R16E; then

(12) Proceed westerly then northerly along the 1,200-foot elevation line to the elevation line's intersection with the southern boundary of section 12, T27S/R15E; then

(13) Proceed west approximately 6.4 miles along the southern boundary lines of sections 12, 11, 10, 9, 8, and 7, T27S/R15E, crossing onto the Shedd Canyon map, and continue west along the southern boundary lines of sections 12 and 11, T27S/R14E, to the intersection of the southern boundary line of section 11 with an unnamed unimproved road locally known as Shedd Canyon Road (within Shedd Canyon 0.1 mile west of State Route 41); then

(14) Proceed northerly on Shedd Canyon Road approximately 3.2 miles, crossing onto the Shandon map, to the road's intersection with the southern boundary line of section 26, T26S/R14E; then

(15) Proceed west along the southern boundary line of section 26, T26S/R14E, to the boundary line's intersection with the unnamed intermittent stream located within Shedd Canyon; then

(16) Proceed northerly along the unnamed intermittent stream located within Shedd Canyon approximately 1.8 miles to the stream's intersection with the western boundary line of section 23, T26S/R14E; then

(17) Proceed north along the western boundary lines of sections 23 and 14, T26S/R14E, approximately 0.6 mile to the section 14 boundary line's intersection with State Route 46; then

(18) Proceed northeasterly in a straight line approximately 0.95 mile to the 1,481-foot “Estrella” elevation point, section 14, T26S/R14E; then

(19) Proceed north-northwesterly in a straight line approximately 1.25 miles to the line's intersection with 1,300-foot elevation line and the northern boundary line of section 11, T26S/R14E; then

(20) Proceed east along northern section boundary lines of sections 11 and 12, T26S/R14E, and the northern boundary lines of sections 7, 8, 9, and 10, T26S/R15E, approximately 5.9 miles in total distance and crossing onto the Cholame map, to the northeast corner of section 10, T26S/R15E (adjacent to State Routes 41/46); then

(21) Proceed south along the eastern boundary line of section 10, T26S/R15E, approximately 1 mile to the section's southeast corner; then

(22) Proceed west-southwesterly in a straight line approximately 1.8 miles, returning to the beginning point.

§ 9.246 San Miguel District.

(a) Name. The name of the viticultural area described in this section is “San Miguel District.” For purposes of part 4 of this chapter, “San Miguel District” is a term of viticultural significance.

(b) Approved maps. The three United States Geological Survey 1:24,000 scale topographic maps used to determine the boundary of the San Miguel District viticultural area are titled:

(1) San Miguel, Calif., 1948, photorevised 1979;

(2) Paso Robles, Calif., 1948, photorevised 1979; and

(3) Adelaida, Calif., 1948, photorevised 1978.

(c) Boundary. The San Miguel District is located in San Luis Obispo County, California. The boundary of the San Miguel District is as described below:

(1) The beginning point is on the San Miguel map at the intersection of U.S. Highway 101 and the San Luis Obispo-Monterey County boundary line, section 1, T25S/R11E. From the beginning point, proceed east along the San Luis Obispo-Monterey County line approximately 5.9 miles to the county line's intersection with San Jacinto Creek, section 1, T25S/R12E; then

(2) Proceed south-southwesterly (downstream) along San Jacinto Creek for approximately 6.5 miles, crossing on to the Paso Robles map, to the creek's confluence with the Estrella River, section 26, T25S/R12E; then

(3) Proceed southerly (upstream) 0.7 mile along the main channel of the Estrella River to the river's intersection with the southern boundary line of section 26, T25S/R12E; then

(4) Proceed west along the southern boundary lines of sections 26, 27, and 28, T25S/R12E, approximately 1.85 miles to the section 28 boundary line's intersection with the Salinas River; then

(5) Proceed southerly (upstream) along the main channel of the Salinas River approximately 1.6 miles to the river's intersection with an unnamed light-duty road locally known as Wellsona Road, section 4, T26S/R12E; then

(6) Proceed west then northwesterly on Wellsona Road approximately 2 miles to the road's intersection with San Miguel Road (locally known as San Marcos Road), section 6, T26S/R12E; then

(7) Proceed west-southwesterly on San Miguel Road (locally known as San Marcos Road) approximately 2.6 miles, crossing onto the Adelaida map, to the road's intersection with the eastern boundary line of the Camp Roberts Military Reservation (approximately 400 feet east of the road's intersection with Generals Road), section 2, T26S/R11E; then

(8) Proceed northerly along the meandering eastern boundary line of the Camp Roberts Military Reservation (approximately 6.3 miles in straight line distance), crossing onto the San Miguel map, to the intersection of the military reservation's boundary line with U.S. Highway 101 near the northeast corner of section 7, T25S/R12E; then

(9) Proceed northwesterly on U.S. Highway 101 approximately 1.55 miles, returning to the beginning point.

§ 9.247 Santa Margarita Ranch.

(a) Name. The name of the viticultural area described in this section is “Santa Margarita Ranch.” For purposes of part 4 of this chapter, “Santa Margarita Ranch” is a term of viticultural significance.

(b) Approved maps. The four United States Geological Survey 1:24,000 scale topographic maps used to determine the boundary of the Santa Margarita Ranch viticultural area are titled:

(1) Santa Margarita, Calif., 1965, revised 1993;

(2) Lopez Mountain, CA, 1995;

(3) San Luis Obispo, CA, 1995; and

(4) Atascadero, CA, 1995.

(c) Boundary. The Santa Margarita Ranch is located in San Luis Obispo County, California. The boundary of the Santa Margarita Ranch is as follows:

(1) The beginning point is on the Santa Margarita map at the intersection of the northern boundary line of section 10, T29S/R13E, and the Salinas River. From the beginning point, proceed southerly (upstream) along the meandering Salinas River approximately 7.9 miles, crossing onto the Lopez Mountain map, to the river's intersection with the R13E/R14E boundary line, which coincides with the eastern boundary line of section 36, T29S/R13E; then

(2) Proceed south along the R13E/R14E boundary line approximately 3.2 miles to the boundary line's first intersection with the Los Padres National Forest boundary line, section 13, T30S/R13E; then

(3) Proceed northwesterly along the Los Padres National Forest boundary line approximately 4 miles to the Forest boundary line's intersection with the T29S/T30S boundary line, near the northwest corner of section 3, T30S/R13E; then

(4) Proceed west along the Los Padres National Forest boundary line and then the T29S/T30S boundary line approximately 2 miles to the southwest corner of section 32, T29S/R13E; then

(5) Proceed north along the western boundary line of section 32, T29S/R13E, and then the Los Padres National Forest boundary line to northwest corner of section 32 where the Forest boundary line makes a 90 degree turn to the west; then

(6) Proceed west along the Los Padres National Forest boundary line approximately 1.5 miles, crossing onto the San Luis Obispo map, to the point where the Los Padres National Forest boundary line first dips to the south and is no longer concurrent with the northern boundary line of section 36, T29S/R12E; then

(7) Proceed north-northwesterly in a straight line approximately 2.25 miles, crossing onto the Atascadero map, to the western-most intersection of the 1,400-foot elevation line with the northern boundary line of section 23, T29S/R12E; then

(8) Proceed west along the northern boundary line of section 23, T29S/R12E, approximately 0.6 mile to the section's northeast corner; then

(9) Proceed east along the western boundary line of section 13, T29S/R12E, to the section's northwest corner, and then continue east along the northern boundary line of section 13, T29S/R12E, to the section boundary line's intersection with the R12E/R13E common boundary line at section 13's northeast corner; then

(10) Proceed due north along the R12E/R13E common boundary line approximately 0.75 mile to the boundary line's intersection with the T-intersection of two unnamed unimproved roads, locally known as Powerline Road and Santa Margarita Road; then

(11) Proceed easterly and then east-northeasterly on Santa Margarita Road approximately 1.5 miles, crossing onto the Santa Margarita map, to the road's intersection with El Camino Real, Santa Margarita Land Grant, T29S/R13E; then

(12) Proceed southeasterly on El Camino Real approximately 300 feet to the road's intersection with an unnamed light-duty road locally known as Asuncion Road at BM 931 (just south of Santa Margarita Creek), Santa Margarita Land Grant; then

(13) Proceed northeasterly on Asuncion Road approximately 0.3 mile (crossing a railroad line) to the road's intersection with Chispa Road; then

(14) Proceed due east in a straight line approximately 0.1 mile to the line's intersection with the boundary line of the Santa Margarita Land Grant, which, at this point, is concurrent with the southwestern boundary line of section 5, T29S/R13E; then

(15) Proceed southeasterly along the Santa Margarita Land Grant boundary line approximately 0.7 mile to the boundary line's intersection with the northwest corner of section 9, T29S/R13E, and then continue east along the northern boundary lines of sections 9 and 10, T29S/R13E, approximately 1.15 miles, returning to the beginning point.

§ 9.248 Templeton Gap District.

(a) Name. The name of the viticultural area described in this section is “Templeton Gap District.” For purposes of part 4 of this chapter, “Templeton Gap District” is a term of viticultural significance.

(b) Approved maps. The two United States Geological Survey 1:24,000 scale topographic maps used to determine the boundary of the Templeton Gap District viticultural area are titled:

(1) Templeton, Calif., 1948, photorevised 1979; and

(2) York Mountain, Calif., 1948, photorevised 1979.

(c) Boundary. The Templeton Gap viticultural area is located in San Luis Obispo County, California. The boundary of the Templeton Gap District viticultural area is as follows:

(1) The beginning point is on the northern portion of the Templeton map at the point where the marked southern city of Paso Robles Corporate Boundary line intersects the Salinas River (now very approximate to the point where Niblick Road crosses the Salinas River). From the beginning point, proceed southerly (upstream) along the Salinas River approximately 1.1 miles to the river's confluence with the first marked unnamed intermittent stream flowing from the east, Santa Ysabel Land Grant; then

(2) Proceed southeasterly (upstream) along the unnamed intermittent stream approximately 0.4 mile to the stream's intersection with an unnamed light-duty road locally known as S. River Road, Santa Ysabel Land Grant; then

(3) Proceed southeasterly then southerly on S. River Road approximately 2.2 miles to the road's intersection with an unnamed light-duty road locally known as Neal Springs Road, Santa Ysabel Land Grant; then

(4) Proceed east on Neal Springs Roads approximately 0.4 mile to the road's intersection with an unnamed light-duty road locally known as Hollyhock Lane, Santa Ysabel Land Grant; then

(5) Proceed south-southeasterly on Hollyhock Lane approximately 0.95 mile to the road's intersection with an unnamed light-duty road locally known as El Pomar Drive, Santa Ysabel Land Grant; then

(6) Proceed southerly in a series of straight lines, totaling approximately 1.4 miles, through the 1,329-foot and 1,338-foot elevation points (crossing from the Santa Ysabel to the Asuncion Land Grants) to the 1,344-foot elevation point; then

(7) Proceed southwesterly in a straight line approximately 0.3 mile to the elevation control point (marked by a triangle) above the 1,440-foot contour line, Asuncion Land Grant; then

(8) Proceed south-southeasterly in a straight line approximately 0.3 mile to the 1,452-foot elevation point, and continue south-southwesterly in a straight line approximately 0.3 mile to the intersection of two light-duty roads locally known as S. El Pomar Road and Homestead Road, Asuncion Land Grant; then

(9) Proceed west-southwesterly in a straight line approximately 1.1 miles to the point where an unnamed light-duty road locally known as Templeton Road intersects with an unnamed intermittent stream (where Templeton Road makes a 90 degree turn at its junction with two unnamed unimproved roads), Asuncion Land Grant; then

(10) Proceed westerly (downstream) along the unnamed intermittent stream approximately 0.5 mile to the stream's confluence with the Salinas River, Asuncion Land Grant; then

(11) Proceed westerly (downstream) along the Salinas River approximately 2.3 miles to the river's intersection with the boundary line of the Paso de Robles Land Grant; then

(12) Proceed southwesterly along the boundary line of the Paso de Robles Land Grant approximately 2.3 miles to the point where the boundary line turns sharply to the northwest; then

(13) Proceed northwesterly approximately 4.65 miles along the boundary line of the Paso de Robles Land Grant, crossing onto the York Mountain map, to the point where the boundary line turns due north (coincides with the southeast corner of section 32, T27S/R11E); then

(14) Proceed north and then north-northeasterly along the boundary line of the Paso de Robles Land Grant approximately 1.5 miles to the point where the boundary line turns sharply to the northwest (coincides with the eastern-most point of section 20, T27S/R11E); then

(15) Proceed northwesterly along the boundary line of the Paso de Robles Land Grant approximately 0.3 mile to the eastern-most fork of an unnamed three-fork tributary of the Jack Creek; then

(16) Proceed northerly (downstream) along the unnamed intermittent tributary of Jack Creek approximately 0.15 mile to the tributary's confluence with Jack Creek, Paso de Robles Land Grant; then

(17) Proceed southeasterly (downstream) along Jack Creek approximately 1.8 miles to the creek's intersection with an unnamed light-duty road locally known as Jack Creek Road (near BM 920), Paso de Robles Land Grant; then

(18) Proceed northeasterly and then east-southeasterly along Jack Creek Road approximately 1 mile to the road's intersection with State Route 46; then

(19) Proceed east on State Route 46 approximately 0.15 mile to the road's intersection with an unnamed light-duty road locally known as Hidden Valley Road, Paso de Robles Land Grant; then

(20) Proceed southeasterly and then easterly on Hidden Valley Road approximately 2.2 miles, crossing onto the Templeton map, to the road's intersection with an unnamed light-duty road locally known as Vineyard Drive, Paso de Robles Land Grant; then

(21) Proceed east on Vineyard Drive approximately 0.85 mile to the road's intersection with an unnamed light-duty road locally known as S. Bethel Road, Paso de Robles Land Grant; then

(22) Proceed north-northeasterly on S. Bethel Road and then N. Bethel Road approximately 1.7 miles to the road's fifth intersection with an unnamed intermittent stream, Paso de Robles Land Grant; then

(23) Proceed westerly (upstream) along the unnamed intermittent stream and then the stream's middle branch approximately 1.1 miles to the marked end of the stream, and then continue due west in a straight line approximately 0.05 mile to State Route 46 (Cayucos Road), Paso de Robles Land Grant; then

(24) Proceed northeasterly on State Route 46 (Cayucos Road) approximately 0.8 mile to BM 924, Paso de Robles Land Grant; then

(25) Proceed due north in a straight line to the southeast corner of section 12, T27S/R11E, and continue north along the eastern boundary line of section 12, a total of approximately 1.1 miles, to the section boundary line's intersection with a light-duty road locally known as Live Oak Road; then

(26) Proceed easterly on Live Oak Road approximately 0.2 mile to the road's intersection with an unnamed intermittent stream, Paso de Robles Land Grant; then

(27) Proceed northwesterly (upstream) along the unnamed intermittent stream approximately 0.35 mile to the eastern boundary line of section 12, T27S/R11E; then

(28) Proceed north along the eastern boundary line of section 12, T27S/R11E, to the section's northeast corner, and then proceed east along the southern boundary line of section 6, T27S/R11E, a total of approximately 1.3 miles, to the intersection of the section 6 boundary line with an unnamed light-duty road locally known as Arbor Road; then

(29) Proceed south-southeasterly on Arbor Road approximately 0.35 mile to the road's first intersection with an unnamed intermittent stream, Paso de Robles Land Grant; then

(30) Proceed southeasterly and then easterly (downstream) along the unnamed intermittent stream approximately 1.4 miles to the stream's intersection with an unnamed light-duty road known locally as S. Vine Street, just west of the U.S. 101/State Route 46 interchange, Paso de Robles Land Grant; then

(31) Proceed northerly along S. Vine Street (which generally parallels U.S. 101) approximately 1.8 miles to the street's intersection with the marked city of Paso Robles Corporate Boundary line (concurrent with the locally-known intersection of S. Vine and 1st Streets), Paso de Robles Land Grant; then

(32) Proceed east along the marked city of Paso Robles Corporate Boundary line (now very approximate to the alignment of 1st Street and then Niblick Road) approximately 0.5 mile, returning to the beginning point.

Signed: September 4, 2014.
John J. Manfreda,
Administrator.
Approved: September 9, 2014.
Timothy E. Skud,
Deputy Assistant Secretary (Tax, Trade, and Tariff Policy).

[FR Doc. 2014-24169 Filed 10-8-14; 8:45 am]

BILLING CODE 4810-31-P